SOCIAL SECURITY ADMINISTRATION

Privacy Act of 1974, as Amended; New System of Records and New Routine Use Disclosures

AGENCY: Social Security Administration (SSA).

ACTION: Proposed new system of records and proposed routine uses.

SUMMARY: In accordance with the Privacy Act (5 U.S.C. 552a(e)(4) and (e)(11)), we are issuing public notice of our intent to establish a new system of records entitled Electronic Disability Claim File, 60-0320, hereinafter referred to as the eDib Claim File, and routine uses applicable to the system of records. We also are issuing notice that we may disclose personally identifiable information from the eDib Claim File to consumer reporting agencies in accordance with 5 U.S.C. 552a(b)(12) and 31 U.S.C. 3711(e). We invite public comment on this proposal.

DATES: We filed a report of the proposed eDib Claim File and the applicable routine uses with the Chairwoman of the Senate Committee on Governmental Affairs, the Chairman of the House Committee on Government Reform, and the Director, Office of Information and Regulatory Affairs, Office of Management and Budget (OMB) on December 16, 2003. The proposed eDib Claim File system of records and the proposed routine uses will become effective on January 25, 2004, unless we receive comments warranting that they not be effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Christine W. Johnson, Strategic Issues Team, Office of Public Disclosure, Office of the General Counsel, Social Security Administration, Room 3-C-1 Operations Building, 6401 Security Boulevard, Baltimore, Maryland 21235-6401, e-mail address at chris.w.johnson@ssa.gov, or by telephone at (410) 965-8563.

SUPPLEMENTARY INFORMATION:

I. Background and Purpose of the Proposed New eDib Claim File System of Records

A. General Background

The Agency currently receives the application and supporting claims information via a number of means (i.e., field offices, teleclaims, and Internet application) and converts submitted information into paper-based records. SSA and the State Disability Determination Services (DDS) receive, review and transfer the paper folders between offices responsible for developing and adjudicating the claim. Claims representatives, disability examiners, quality assurance reviewers, hearing clerks, judges, etc., work through the paper file while reviewing the evidence. More paper is added at each review stage. After the Agency reaches a decision on a person's entitlement to benefits, the folder is mailed to a component responsible for storing and retrieving folders for subsequent actions. In the paper process, SSA incurs significant costs from maintaining, handling, moving, housing and reconstructing paper files. This paper bound process includes initial adjudication, the administrative appeals process and continuing eligibility to benefits.

The proposed eDib Claim File will allow the electronic collection, transfer, access and processing of disability claims information in a more efficient and less costly manner through improved hardware/software systems and automated programs such as:

• Internet applications that allow the collection of disability claims medical information from the public via the Internet;

• Electronic disability collect system (EDCS) that allows SSA field personnel to electronically collect information and transfer data to the electronic folder;

• Electronic folder infrastructure and document management architecture (DMA) that stores electronic versions of all information previously housed in the paper folder (e.g., data, images, work documents, hearing recordings, etc.) and shares those items electronically among all components in the disability process;

• Automated case processing and management system that builds upon existing products and projects within the Office of Hearings and Appeals including interface with the electronic folder; and

• Systems migration from current Disability Determination Services case processing systems to technology that is better able to handle eDib activities.

To this end, the eDib Claim File will encompass all disability cases from the initial intake process through the administrative appeals process and include the continuing disability review process. All materials from the disability folder will be created, maintained and stored electronically and case processing systems throughout SSA and the state DDSs will interface with the eDib Claim File to support the paperless process.

Because SSA will maintain and retrieve information from the proposed eDib Claim File using Social Security numbers (SSN) and/or names, the proposed eDib Claim File will constitute a “system of records” under the Privacy Act.

B. Collection and Maintenance of Data in the eDib Claim File System of Records

The eDib Claim File will include identifying information about claimants, applicants, beneficiaries and potential claimants for disability benefits and payments administered by the Social Security Administration. See the “Categories of Records” section of the notice below for a full description of the data that will be maintained in the system of records.

II. Proposed Routine Use Disclosures of Data Maintained in the Proposed eDib Claim File System of Records

A. Proposed Routine Use Disclosures

We are proposing to establish the following routine use disclosures of information that will be maintained in the proposed new eDib Claim File system of records:

1. To the Office of the President for the purpose of responding to an individual pursuant to an inquiry received from that individual or from a third party on his or her behalf.

We will disclose information under this routine use only in situations in which an individual may contact the Office of the President, seeking that Office's assistance in a matter relating to the eDib Claim File. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to the eDib Claim File. Information will be disclosed when the congressional representative makes an inquiry and indicates that he or she is acting on behalf of the individual whose record is requested.

3. To the Department of Justice (DOJ), a court or other tribunal, or another party before such tribunal when:

(a) SSA or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components

is party to litigation or has an interest in such litigation and SSA determines that the use of such records by DOJ, a court or other tribunal, or another party before such tribunal is relevant and necessary to the litigation, provided, however, that in each case, SSA determines that such disclosure is compatible with the purpose for which the records were collected.

Disclosure of any information defined as “return or return information” under 26 U.S.C. 6103 of the Internal Revenue Code (IRC) will not be disclosed unless authorized by a statute, the Internal Revenue Service (IRS) or IRS Regulations.

We will disclose information under this routine use only as necessary to enable DOJ to effectively defend SSA, its components or employees in litigation involving the proposed system of records or when the United States is a party to litigation and SSA has an interest in the litigation.

4. To third party contacts in situations where the party to be contacted has, or is expected to have, information relating to the individual's capability to manage his/her affairs or his/her eligibility for or entitlement to benefits under the Social Security program when:

(a) The individual is unable to provide information being sought. An individual is considered to be unable to provide certain types of information when:

(i) He/she is incapable or of questionable mental capability;

(ii) He/she cannot read or write;

(iii) He/she cannot afford the cost of obtaining the information;

(iv) He/she has a hearing impairment, and is contacting SSA by telephone through a telecommunications relay system operator;

(v) A language barrier exists; or

(vi) The custodian of the information will not, as a matter of policy, provide it to the individual; or

(b) The data are needed to establish the validity of evidence to verify the accuracy of information presented by the individual, and it concerns one or more of the following:

(i) His/her eligibility for benefits under the Social Security program;

(ii) The amount of his/her benefit payment; or

(iii) Any case in which the evidence is being reviewed as a result of suspected abuse or fraud, concern for program integrity, or for quality appraisal, or evaluation and measurement activities.

We will disclose information under this routine use only as necessary to enable SSA to obtain information that will assist in determining individuals' entitlement to or management of benefits under the Social Security program.

5. To third party contacts, where necessary, to establish or verify information provided by representative payees or payee applicants.

We will disclose information under this routine use only as necessary to assist SSA in the administration of the Representative Payee program provisions of section 205(j) and 1631(a) of the Social Security Act (Act).

6. To a person (or persons) on the rolls when a claim is filed by an individual which is adverse to the person on the rolls, i.e.,

(a) An award of benefits to a new claimant precludes an award to a prior claimant; or

(b) An award of benefits to a new claimant will reduce the benefit payments to the individual(s) on the rolls, but only for information concerning the facts relevant to the interest of each party in a claim.

We will disclose information under this routine use to a person(s) on the rolls only in situations involving the subsequent filing of a claim that negatively affects the benefit status of the person already on the rolls.

7. To employers or former employers for correcting or reconstructing earnings records and for Social Security tax purposes only.

We will disclose information under this routine use only for the purpose of assisting in the correction and reconstruction of earning records for Social Security tax purposes only.

8. To the Department of Treasury for:

(a) Collecting Social Security taxes or as otherwise pertinent to tax and benefit payment provisions of the Act (including SSN verification services); or

(b) Investigating alleged theft, forgery or unlawful negotiation of Social Security checks.

We will disclose information under this routine use only for the purpose of assisting the Department of Treasury in the collection of Social Security taxes and for investigating the unlawful receipt and/or negotiation of Social Security checks.

9. To the United States Postal Services for investigating the alleged forgery, theft or unlawful negotiation of Social Security checks.

We will disclose information under this routine use only to the extent necessary to assist SSA in the investigation of unlawful receipt and negotiation of Social Security checks.

10. Information may be disclosed to DOJ for:

(a) Investigating and prosecuting violations of the Act to which criminal penalties attach,

(b) Representing the Commissioner, or

(c) Investigating issues of fraud by agency officers or employees, or violation of civil rights.

We will disclose information under this routine use, only as necessary, to enable DOJ to represent SSA in matters concerning violations of the Act, to represent the Commissioner of Social Security and to investigate issues of fraud by SSA officers or employees or violation of civil rights.

11. To the Department of State and its agents for administering the Act in foreign countries through facilities and services of that agency.

The Department of State acts as SSA's agent in administering Social Security affairs in foreign countries. We contemplate disclosing to the Department of State, as necessary, to administer the Social Security program for individuals residing in foreign countries.

12. To the American Institute of Taiwan and its agents for administering the Act in Taiwan through facilities and services of that organization.

The American Institute of Taiwan acts as SSA's agent in administering Social Security affairs in Taiwan. We contemplate disclosing to the American Institute of Taiwan, as necessary, to administer the Social Security program for individuals residing in Taiwan.

13. To the Department of Veterans Affairs, Philippines Regional Office and its agents, for administering the Act in the Philippines through facilities and services of that agency.

The Department of Veterans Affairs, Philippines Regional Office, acts as SSA's agent in administering Social Security affairs in the Philippines. We contemplate disclosing to that agency as necessary to administer benefits for individuals residing in the Philippines.

14. To the Department of Interior and its agents for administering the Act in the Northern Mariana Islands through facilities and services of that agency.

The Department of Interior acts as SSA's agent in administering Social Security affairs in the Northern Mariana Islands. We contemplate disclosing to the Department of Interior, as necessary, to administer the Social Security program for individuals residing in the Northern Mariana Islands.

15. To State Social Security Administrators for administration of agreements pursuant to section 218 of the Act.

We will disclose information under this routine use only for the purpose of administering agreements pursuant to section 218 of the Act.

16. To private medical and vocational consultants for use in making preparation for, or evaluating the results of, consultative medical examinations or vocational assessments which they were engaged to perform by SSA or a State agency acting in accord with sections 221 or 1633 of the Act.

We will disclose information under this routine use only for the purpose of evaluating the results of consultative medical examinations or vocational assessments to assist SSA in the development of disability determinations pursuant to sections 221 or 1633 of the Act.

17. To specified business and other community members and Federal, State, and local agencies for verification of eligibility for benefits under section 1631(e) of the Act.

We will disclose information under this routine use only for the purpose of assisting SSA in the verification of information necessary for the effective and efficient administration of SSA programs pursuant to section 1631(e) of the Act.

18. To institutions or facilities approved for treatment of drug addicts or alcoholics as a condition of the individual's eligibility for payment under section 1611(e)(3) of the Act and as authorized by regulations issued by the Special Action Office for Drug Abuse Prevention.

We will disclose information under this routine use only for the purpose of verifying eligibility for payment as authorized by section 1611(e)(3) of the Act and regulations issued by the Special Action Office for Drug Abuse Prevention.

19. To applicants, claimants, prospective applicants or claimants, other than the data subject, their authorized representatives or representative payees to the extent necessary to pursue Social Security claims and to representative payees when the information pertains to individuals for whom they serve as representative payees, for the purpose of assisting SSA in administering its representative payment responsibilities under the Act and assisting the representative payees in performing their duties as payees, including receiving and accounting for benefits for individuals for whom they serve as payees.

We will disclose information under this routine use, only to the extent necessary, to pursue Social Security claims and assist SSA in administration of the representative payee program.

20. In response to legal process or interrogatories relating to the enforcement of an individual's child support or alimony obligations, as required by sections 459 and 460 of the Act.

We will disclose information under this routine use only in accordance with the child support and alimony obligations set out in sections 459 and 460 of the Act.

21. To Federal, State or local agencies (or agents on their behalf) for administering cash or non-cash income maintenance or health maintenance programs (including programs under the Act). Such disclosures include, but are not limited to, release of information to:

(a) The Railroad Retirement Board for administering provisions of the Railroad Retirement and Social Security Acts relating to railroad employment and for administering the Railroad Unemployment Insurance Act;

(b) The VA for administering 38 U.S.C. 412, and upon request, information needed to determine eligibility for or amount of VA benefits or verifying other information with respect thereto; United States

(c) The Department of Labor for administering provisions of Title IV of the Federal Coal Mine Health and Safety Act, as amended by the Black Lung Benefits Act;

(d) State agencies for making determinations of Medicaid eligibility; and

(e) State agencies for making determinations of food stamp eligibility under the food stamp program;

(f) To State audit agencies for auditing State supplementation payments and Medicaid eligibility considerations; and expenditures of Federal funds by the State in support of the DDSs;

(g) To State welfare departments pursuant to agreements with SSA for administration of State supplementation payments; for enrollment of welfare recipients for medical insurance under section 1843 of the Act; and for conducting independent quality assurance reviews of SSI recipient records, provided that the agreement for Federal administration of the supplementation provides for such an independent review; and

(h) To State vocational rehabilitation agencies or State crippled children's service agencies (or other agencies providing services to disabled children) for consideration of rehabilitation services per sections 222 and 1615 of the Act.

We will disclose information under this routine use only for the purpose of supporting other government agencies that administer programs which have the same compatible purposes as SSA programs, e.g., eligibility, benefit amounts, or other matters of benefit status in a social security program and is relevant to determining the same matters in the other program.

22. To the Social Security agency of a foreign country, to carry out the purpose of an international Social Security agreement entered into between the United States and the other country, pursuant to section 233 of the Act.

We will disclose information under this routine use where information from SSA's records is needed by a foreign Social Security agency to implement a provision of an agreement other than adjudicating a claim for benefits.

23. To the Internal Revenue Service (IRS), Department of the Treasury, for the purpose of auditing SSA's compliance with the safeguard provisions of the Internal Revenue Code (IRC) of 1986, as amended.

This proposed routine use would allow the IRS to audit SSA's maintenance of earnings and wage information in the eDib Claim File to ensure that SSA complies with the safeguard requirements of the IRC.

24. To third party contacts (including private collection agencies under contract with SSA) for the purpose of their assisting SSA in recovering overpayments.

We will disclose information under this routine use only in situations in which SSA requires third party assistance to collect overpayments material to the Social Security program.

25. To the Department of Homeland Security (Bureau of Citizenship and Immigration Services (BCIS)), upon request, to identify and locate aliens in the United States pursuant to section 290(b) of the Immigration and Nationality Act (8 U.S.C. 1360(b)).

We will disclose information under this routine use only for the purpose of identifying and locating illegal aliens pursuant to section 290(b) of the Immigration and Nationality Act (8 U.S.C. 1360(b)).

26. To contractors and other Federal agencies, as necessary, for the purpose of assisting SSA in the efficient administration of its programs. We contemplate disclosing information under this routine use only in situations in which SSA may enter a contractual or similar agreement with a third party to assist in accomplishing an agency function relating to this system of records.

SSA occasionally contracts out certain of its functions when this would contribute to effective and efficient operations. SSA must be able to give a contractor whatever information the Agency can legally provide in order for the contractor to fulfill its duties. In these situations, safeguards are provided in the contract prohibiting the contractor from using or disclosing the information for any purpose other than that described in the contract.

27. Addresses of beneficiaries who are obligated on loans held by the Secretary of Education or a loan made in accordance with 20 U.S.C. 1071, et seq. (the Robert T. Stafford Student Loan Program) may be disclosed to the Department of Education as authorized by section 489A of the Higher Education Act of 1965.

Under this routine use we will disclose address only information to the Secretary of Education for the purpose of locating beneficiaries that are obligated on loans held by the Secretary.

28. To student volunteers and other workers, who technically do not have the status of Federal employees when they are performing work for SSA as authorized by law and they need access to personally identifiable information in SSA records in order to perform their assigned Agency functions.

Under certain Federal statutes, SSA is authorized to use the service of volunteers and participants in certain educational, training, employment and community service programs. An example of such statutes and programs includes: 5 U.S.C. 2753 regarding the College Work-Study Program. We contemplate disclosing information under this routine use only when SSA uses the services of these individuals and they need access to information in this system to perform their assigned agency duties.

29. To Federal, State and local law enforcement agencies and private security contractors as appropriate, information necessary:

• To enable them to protect the safety of SSA employees and customers, the security of SSA workplace and the operation of SSA facilities, or

• To assist investigations or prosecutions with respect to activities that affect such safety and security or activities that disrupts the operation of SSA facilities.

We will disclose information under this routine use to law enforcement agencies and private security contractors when information is needed to respond to, investigate or prevent activities that jeopardize the security and safety of SSA customers, employees or workplaces or that otherwise disrupt the operation of SSA facilities. Information would also be disclosed to assist in the prosecution of persons charged with violating Federal or local law in connection with such activities.

30. Non-tax return information which is not restricted from disclosure by Federal law to the General Services Administration (GSA) and the National Archives Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3)) and SSA's disclosure regulation (20 CFR part 401) permit us to disclose information under a published routine use for a purpose that is compatible with the purpose for which we collected the information. SSA's Regulations at 20 CFR 401.150(c) permits us to disclose information under a routine use where necessary to carry out SSA programs. SSA's Regulations at 20 CFR 401.120 provide that we will disclose information when a law specifically requires the disclosure. The proposed routine uses numbered 1 through 24, 26, 28 and 29 above will ensure efficient administration of SSA programs administered through the proposed eDib Claim File; the disclosures that would be made under routine uses number 25, 27, and 30 are required by law. The proposed routine uses are appropriate and meet the relevant statutory and regulatory criteria.

III. Disclosure to Consumer Reporting Agencies

The Privacy Act of 1974, as amended (5 U.S.C. 552a(b)(12)) permits Federal agencies to disclose certain information to consumer reporting agencies in accordance with 31 U.S.C. 3711(e) without the consent of the individuals to whom the information pertains. The purpose of this disclosure is to provide an incentive for individuals to pay any outstanding debts they owe to the Federal government by including information about these debts in the records relating to those persons maintained by consumer reporting agencies. This is a practice commonly used by the private sector. The information disclosed will be limited to that which is needed to establish the identity of the individual debtor, the amount, status, and history of the debt, and the agency or program under which the debt arose.

We have added the following statement at the end of the routine uses section of the proposed system of records:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

IV. Records Storage Medium and Safeguards for the Proposed eDib Claim File System of Records

The eDib Claim File is a repository. Only authorized SSA personnel who have a need for the information in the performance of their official duties will be permitted access to the information. We will safeguard the security of the information by requiring the use of access codes to enter the computer systems that will maintain the data and will store computerized records in secured areas that are accessible only to employees who require the information to perform their official duties. Any manually maintained records will be kept in locked cabinets or in otherwise secure areas. Furthermore, SSA employees having access to SSA databases maintaining personal information must sign a sanction document annually, acknowledging their accountability for making unauthorized access to or disclosure of such information.

Contractor personnel having access to data in the eDib Claim File will be required to adhere to SSA rules concerning safeguards, access and use of the data.

SSA personnel having access to the data on this system will be informed of the criminal penalties of the Privacy Act for unauthorized access to or disclosure of information maintained in this system. See 5 U.S.C. 552a(i)(1).

V. Effect of the Proposed eDib Claim File System of Records on the Rights of Individuals

The proposed new eDib Claim File system of records will maintain only that information that is necessary for the efficient and effective control and processing of disability applications from the initial phase through the appeals process and includes the CDR process. Security measures will be employed that protect access to and preclude unauthorized disclosure of records in the proposed system of records. Therefore, we do not anticipate that the proposed system of records will have an unwarranted adverse effect on the rights of individuals.

Dated: December 16, 2003.
Jo Anne B. Barnhart,
Commissioner.

System name:

Electronic Disability (eDib) Claim File, Social Security Administration, Deputy Commissioner for Disability and Income Security Programs.

Security classification:

None.

System location:

The eDib claim files are virtually established in Social Security field offices when claims for benefits are filed, or a lead is expected to result in a claim, and maintained in the National Computer Center at SSA Headquarters. The computerized records and database are maintained at Social Security Administration, Office of Systems, 6401 Security Boulevard, Baltimore, Maryland 21235.

Other authorized Federal and State agencies that have access to the current paper disability folder will also have electronic access as needed to the eDib claim file. State agencies process disability and vocational rehabilitation determinations. Contact the system manager for address information.

Categories of individuals covered by the system:

Claimants, applicants, beneficiaries and potential claimants for disability benefits and payments administered by the Social Security Administration (e.g., Title II and XVI disability claims).

Categories of records in the system:

The eDib Claim File contains the name and Social Security number (SSN) of the claimant or potential claimant and may contain the application for benefits; supporting evidence and documentation for initial and continuing entitlement; payment documentation; correspondence to and from claimants and/or representatives; information about representative payees; and leads information from third parties such as social service agencies, Internal Revenue Service, Veterans Administration and mental institutions.

The eDib claim file also may contain data collected as a result of inquiries or complaints and evaluation and measurement studies of the effectiveness of claims policies. Separate files may be maintained of certain actions, which are entered directly into the electronic processes. These relate to reports of changes of address, work status, and other post-adjudicative reports. Separate abstracts also are maintained for statistical purposes i.e., disallowances, technical denials, and demographic and statistical information relating to disability decisions.

Authority for maintenance of the system:

Sections 202-205, 223, 226, 228, 1611, 1631, 1818, 1836, and 1840 of the Social Security Act (42 U.S.C. 402-405, 423, 426, 428, 1382, 1383, 1395i-2, 1395o and 1395s

Purpose(s):

The electronic disability claim file contains material related to the request for or continuation of benefit payments under Titles II and XVI of the Social Security Act. eDib claim file information is used throughout SSA for purposes of pursuing claims; collecting, documenting, organizing and maintaining information and documents for making determinations of eligibility for disability benefits, the amount of benefits, the appropriate payee for benefits; reviewing continuing eligibility; holding hearings or administrative review processes; ensuring that proper adjustments are made based on events affecting entitlement; and answering inquiries.

eDib claim files may be referred to State Disability Determination Service (DDS) agencies or vocational rehabilitation agencies. They may also be used for quality review, evaluation, and measurement studies, and other statistical and research purposes. Extracts may be maintained as interviewing tools, activity logs, records of claims clearance, and records of type or nature of actions taken.

Routine uses of records maintained in the system, including categories of users and the purposes of such uses:

Disclosure may be made for routine uses as indicated below. However, disclosure of any information defined as “return or return information” under 26 U.S.C. 6103 of the Internal Revenue Code (IRC) will not be disclosed unless authorized by a statute, the Internal Revenue Service (IRS), or IRS regulations.

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components is party to litigation or has an interest in such litigation and SSA determines that the use of such records by DOJ, a court or other tribunal, or another party before such tribunal is relevant and necessary to the litigation, provided, however, that in each case, SSA determines that such disclosure is compatible with the purpose for which the records were collected.

Disclosure of any information defined as “return or return information” under 26 U.S.C. 6103 of the Internal Revenue Code (IRC) will not be disclosed unless authorized by a statute, the Internal Revenue Service (IRS), or IRS Regulations.

4. To third party contacts in situations where the party to be contacted has, or is expected to have, information relating to the individual's capability to manage his/her affairs or his/her eligibility for or entitlement to benefits under the Social Security program when:

(a) The individual is unable to provide information being sought. An individual is considered to be unable to provide certain types of information when:

(i) He/she is incapable or of questionable mental capability;

(ii) He/she cannot read or write;

(iii) He/she cannot afford the cost of obtaining the information;

(iv) He/she has a hearing impairment, and is contacting SSA by telephone through a telecommunications relay system operator;

(v) A language barrier exists; or

(vi) The custodian of the information will not, as a matter of policy, provide it to the individual; or

(b) The data are needed to establish the validity of evidence to verify the accuracy of information presented by the individual, and it concerns one or more of the following:

(i) His/her eligibility for benefits under the Social Security program;

(ii) The amount of his/her benefit payment; or

(iii) Any case in which the evidence is being reviewed as a result of suspected abuse or fraud, concern for program integrity, or for quality appraisal, or evaluation and measurement activities.

5. To third party contacts where necessary to establish or verify information provided by representative payees or payee applicants.

6. To a person (or persons) on the rolls when a claim is filed by an individual which is adverse to the person on the rolls, i.e.,

(a) An award of benefits to a new claimant precludes an award to a prior claimant; or

(b) An award of benefits to a new claimant will reduce the benefit payments to the individual(s) on the rolls; but only for information concerning the facts relevant to the interest of each party in a claim.

7. To employers or former employers for correcting or reconstructing earnings records and for Social Security tax purposes only.

8. To the Department of Treasury for:

(a) Collecting Social Security taxes or as otherwise pertinent to tax and benefit payment provisions of the Act (including SSN verification services); or

(b) Investigating alleged theft, forgery, or unlawful negotiation of Social Security checks.

9. To the United States Postal Services for investigating the alleged forgery, theft or unlawful negotiation of Social Security checks.

10. Information may be disclosed to DOJ for:

(a) Investigating and prosecuting violations of the Act to which criminal penalties attach,

(b) Representing the Commissioner, or

(c) Investigating issues of fraud by agency officers or employees, or violation of civil rights.

11. To the Department of State and its agents for administering the Act in foreign countries through facilities and services of that agency.

12. To the American Institute of Taiwan and its agents for administering the Act in Taiwan through facilities and services of that organization.

13. To the Department of Veterans Affairs, Philippines Regional Office and its agents for administering the Act in the Philippines through facilities and services of that agency.

14. To the Department of Interior and its agents for administering the Act in the Northern Mariana Islands through facilities and services of that agency.

15. To State Social Security Administrators for administration of agreements pursuant to section 218 of the Act.

16. To private medical and vocational consultants for use in making preparation for, or evaluating the results of, consultative medical examinations or vocational assessments which they were engaged to perform by SSA or a State agency acting in accord with sections 221 or 1633 of the Act.

17. To specified business and other community members and Federal, State, and local agencies for verification of eligibility for benefits under section 1631(e) of the Act.

18. To institutions or facilities approved for treatment of drug addicts or alcoholics as a condition of the individual's eligibility for payment under section 1611(e)(3) of the Act and as authorized by regulations issued by the Special Action Office for Drug Abuse Prevention.

19. To applicants, claimants, prospective applicants or claimants, other than the data subject, their authorized representatives or representative payees to the extent necessary to pursue Social Security claims and to representative payees when the information pertains to individuals for whom they serve as representative payees, for the purpose of assisting SSA in administering its representative payment responsibilities under the Act and assisting the representative payees in performing their duties as payees, including receiving and accounting for benefits for individuals for whom they serve as payees.

20. In response to legal process or interrogatories relating to the enforcement of an individual's child support or alimony obligations, as required by sections 459 and 460 of the Act.

21. To Federal, State, or local agencies (or agents on their behalf) for administering cash or non-cash income maintenance or health maintenance programs (including programs under the Act). Such disclosures include, but are not limited to, release of information to:

(a) The Railroad Retirement Board for administering provisions of the Railroad Retirement and Social Security Acts relating to railroad employment and for administering the Railroad Unemployment Insurance Act;

(b) The VA for administering 38 U.S.C. 412, and upon request, information needed to determine eligibility for or amount of VA benefits or verifying other information with respect thereto;

(c) The Department of Labor for administering provisions of Title IV of the Federal Coal Mine Health and Safety Act, as amended by the Black Lung Benefits Act;

(d) State agencies for making determinations of Medicaid eligibility; and

(e) State agencies for making determinations of food stamp eligibility under the food stamp program;

(f) To State audit agencies for auditing State supplementation payments and Medicaid eligibility considerations; and expenditures of Federal funds by the State in support of the Disability Determination Services (DDS);

(g) To State welfare departments pursuant to agreements with SSA for administration of State supplementation payments; for enrollment of welfare recipients for medical insurance under section 1843 of the Act; and for conducting independent quality assurance reviews of SSI recipient records, provided that the agreement for Federal administration of the supplementation provides for such an independent review; and

(h) To State vocational rehabilitation agencies or State crippled children's service agencies (or other agencies providing services to disabled children) for consideration of rehabilitation services per sections 222 and 1615 of the Act.

22. To the Social Security agency of a foreign country, to carry out the purpose of an international Social Security agreement entered into between the United States and the other country, pursuant to section 233 of the Act.

23. To the IRS, Department of the Treasury, for the purpose of auditing SSA's compliance with the safeguard provisions of the IRC of 1986, as amended.

24. To third party contacts (including private collection agencies under contract with SSA) for the purpose of their assisting SSA in recovering overpayments.

25. To the Department of Homeland Security (Bureau of Citizenship and Immigration Services (BCIS)), upon request, to identify and locate aliens in the United States pursuant to section 290(b) of the Immigration and Nationality Act (8 U.S.C. 1360(b)).

26. To contractors and other Federal agencies, as necessary, for the purpose of assisting SSA in the efficient administration of its programs. We contemplate disclosing information under this routine use only in situations in which SSA may enter a contractual or similar agreement with a third party to assist in accomplishing an agency function relating to this system of records.

27. Addresses of beneficiaries who are obligated on loans held by the Secretary of Education or a loan made in accordance with 20 U.S.C. 1071, et seq. (the Robert T. Stafford Student Loan Program) may be disclosed to the Department of Education as authorized by section 489A of the Higher Education Act of 1965.

28. To student volunteers and other workers, who technically do not have the status of Federal employees, when they are performing work for SSA as authorized by law, and they need access to personally identifiable information in SSA records in order to perform their assigned Agency functions.

29. To Federal, State and local law enforcement agencies and private security contractors, as appropriate, information necessary:

• To enable them to protect the safety of SSA employees and customers, the security of SSA workplace and the operation of SSA facilities, or

• To assist investigations or prosecutions with respect to activities that affect such safety and security or activities that disrupts the operation of SSA facilities.

30. Non-tax return information which is not restricted from disclosure by Federal law to the General Services Administration (GSA) and the National Archives Records Administration (NARA) under 44 U.S.C. 2904 and § 2906, as amended by NARA Act of 1984, for the use of those agencies in conducting records management studies.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e), or 1631(b)(4) of the Social Security Act (42 U.S.C. 404(f), 1008(e), or 1383(b)(4)). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt and the agency or program under which the debt arose.

Policies and practices for storing, retrieving, accessing, retaining, and disposing of records in the system:

Storage:

Records are maintained electronically.

Retrievability:

eDib claim files are retrieved electronically by SSN and alphabetically by name.

Safeguards:

eDib claim files are protected through limited access to SSA records. Access to the records is limited to those employees who require such access in the performance of their official duties. All employees are instructed in SSA confidentiality rules as a part of their initial orientation training.

Safeguards for automated records have been established in accordance with the Systems Security Handbook. For computerized records, electronically transmitted between SSA's central office and field office locations (including organizations administering SSA programs under contractual agreements), safeguards include a lock/unlock password system, exclusive use of leased telephone lines, a terminal oriented transaction matrix, and an audit trail.

Retention and Disposal:

The retention schedule for the new eDib Claim File will be incorporated in the Social Security media neutral claim file retention schedule. The schedule includes authoritative instructions for the retention or destruction of existing and future disability claim file records under Title II and Title XVI of the Social Security Act.

The retention periods for disability claim file records are as follows:

A. Title II Domestic Disability Insurance (DI) Claim Files

Files for Title II claims based on disability will be deleted/destroyed 7 years after the date of adjudication of the most recently awarded claim if: (1) The person has attained full retirement age; or (2) the medical reexamination date is scheduled to occur after attainment of full retirement age.

Files for Title II DI claims denied or terminated for medical reasons will be deleted/destroyed 5 years after the Agency's final denial or termination decision. Title II DI files denied or terminated for non-medical reasons, including death, will be deleted/destroyed 2 years after the Agency's final denial or termination decision.

B. Title II International DI Claim Files

Files for Title II DI claims based on disability for persons receiving payments will be retained until the claim is terminated. Title II DI files for persons not receiving payments (denied or terminated) will be deleted/destroyed (including underpayment records) 5 years after the Agency's final denial or termination decision.

Files for Title II DI claims not based on disability for persons receiving payments will be retained until the claim is terminated. Title II DI files for persons not receiving payments (denied or terminated) will be deleted/destroyed (including underpayment records) 5 years after the Agency's final denial or termination decision.

C. Supplemental Security Income Claim Files

Files for SSI disability claims will be deleted/destroyed 7 years after the adjudication date of the most recently awarded claim if: (1) The person attains age 65; or (2) the medical reexamination date is scheduled to occur after attainment of age 65.

Files for claims denied or terminated for medical reasons will be deleted/destroyed 5 years after the Agency's final denial or termination decision. Files for claims denied or terminated for non-medical reasons will be deleted/destroyed 2 years after the Agency's final denial or termination decision.

All paper claim files are disposed of by shredding or the application of heat when the retention periods have expired.

System manager(s) and address:

Deputy Commissioner, Disability and Income Security Programs, Social Security Administration, 6401 Security Boulevard, Baltimore, MD 21235.

Notification procedure:

When requesting notification, the individual should provide the type of claim he or she filed (DI and/or SSI). If more than one claim is filed, each should be identified, whether he/she is or has been receiving benefits, whether payments are being received under his or her own SSN, and if not, the name and SSN under which received, if benefits have not been received, the approximate date and place the claim was filed, and his/her address and/or telephone number. (Furnishing the SSN is voluntary, but it will make searching for an individual's record easier and prevent delay.)

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses, is a criminal offense. These procedures are in accordance with SSA Regulations (20 CFR 401.40).

An individual who requests access to his or her medical records shall be given direct access to those records unless SSA determines that it is likely that direct access would adversely affect the individual. If SSA determines that direct access to the medical record(s) would likely adversely affect the individual, he or she must designate a responsible representative who is capable of explaining the contents of the medical record(s) to him or her and who would be willing to provide the entire record(s) to the individual. These procedures are in accordance with SSA Regulations (20 CFR 401.55).

A parent or guardian who requests notification of or access to a minor's medical record shall, at the time he/she makes the request, designate a physician or other health professional (other than a family member) who is capable of explaining the contents of the medical record(s) to him or her and who would be willing to provide the entire record(s) to the individual. These procedures are in accordance with SSA Regulations (20 CFR 401.55).

Record access procedures:

Same as Notification procedures. Requesters should also reasonably specify the information they are seeking. These procedures are in accordance with SSA Regulations (20 CFR 401.40(c) and 401.55).

Contesting record procedures:

Same as Notification procedures. Requesters should also reasonably identify the record, specify the information they are contesting and state the corrective action sought and the reasons for the correction with supporting justification showing how the record is incomplete, untimely, inaccurate or irrelevant. These procedures are in accordance with SSA Regulations (20 CFR 401.65).

Record source categories:

Information in this system is obtained from claimants, beneficiaries, applicants and recipients; accumulated by SSA from reports of employers or self-employed individuals; various local, State, and Federal agencies; claimant representatives and other sources to support factors of entitlement and continuing eligibility or to provide leads information.

Systems exempted from certain provisions of the Privacy Act:

None.

[FR Doc. 03-31432 Filed 12-19-03; 8:45 am]

BILLING CODE 4191-02-P